DEPARTMENT OF ENERGY

Federal Energy Regulatory Commission

Combined Notice of Filings #2

Take notice that the Commission received the following electric rate filings:

Docket Numbers: ER10-1585-009; ER10-1594-009; ER10-1597-005; ER10-1617-009; ER10-1624-005; ER12-60-011; ER10-1632-011; ER10-1628-009.

Applicants: Alabama Electric Marketing, LLC, California Electric Marketing, LLC, Kiowa Power Partners, L.L.C., New Mexico Electric Marketing, LLC, Tenaska Power Management, LLC, Tenaska Power Services Co., Texas Electric Marketing, LLC, Tenaska Gateway Partners, Ltd.

Description: Updated Market Power Analysis in the Southwest Power Pool region of the Tenaska MBR Sellers.

Filed Date: 12/31/15

Accession Number: 20151231-5404.

Comments Due: 5 p.m. ET 2/29/16.

Docket Numbers: ER10-2507-007.

Applicants: Westar Energy, Inc.

Description: Notice of Non-Material Change in Status of Westar Energy, Inc.

Filed Date: 1/4/16.

Accession Number: 20160104-5264.

Comments Due: 5 p.m. ET 1/25/16.

Docket Numbers: ER13-415-003.

Applicants: Anahau Energy, LLC.

Description: Triennial market power update of Anahau Energy, LLC for SPP region.

Filed Date: 12/31/15.

Accession Number: 20151231-5406.

Comments Due: 5 p.m. ET 2/29/16.

Docket Numbers: ER15-710-004.

Applicants: Arizona Public Service Company.

Description: Compliance filing: Service Agreement No. 341—NITS with ED3 to be effective 5/31/2015.

Filed Date: 1/4/16.

Accession Number: 20160104-5339.

Comments Due: 5 p.m. ET 1/25/16.

Docket Numbers: ER16-677-000.

Applicants: PJM Interconnection, L.L.C.

Description: Section 205(d) Rate Filing: Original Service Agreement No. 4322; Queue Z1-036 (ISA) to be effective 12/3/2015.

Filed Date: 1/4/16.

Accession Number: 20160104-5077.

Comments Due: 5 p.m. ET 1/25/16.

Docket Numbers: ER16-679-000.

Applicants: Northern States Power Company, a Wisconsin corporation.

Description: Section 205(d) Rate Filing: 2016-1-4_DPC Switching Agrmt-0.0.0-Filing to be effective 3/5/2016.

Filed Date: 1/4/16

Accession Number: 20160104-5346.

Comments Due: 5 p.m. ET 1/25/16.

Docket Numbers: ER16-680-000.

Applicants: PJM Interconnection, L.L.C.

Description: Tariff Cancellation: Notice of Cancellation of WMPA SA No. 3356, Queue No. W4-033 to be effective 12/8/2015.

Filed Date: 1/4/16.

Accession Number: 20160104-5386.

Comments Due: 5 p.m. ET 1/25/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2016.
Nathaniel J. Davis, Sr.,
Deputy Secretary.

[FR Doc. 2016-00118 Filed 1-7-16; 8:45 am]

BILLING CODE 6717-01-P